FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Request for Mitigation Assistance-Cerro Grande Mitigation Proposal.

Type of Information Collection: Revision of a currently approved collection.

OMB Number: 3067-0286.

Abstract: The information collected on the Request for Mitigation Assistance—Cerro Grande Mitigation Proposal, (FFCG-4) will be collected by claimants with the assistance of a FEMA mitigation specialist and will be used by mitigation specialist to determine if mitigation funding will be awarded to claimants. The information collection is addressed in the Cerro Grande Fire Assistance Act Final Rule published in the Federal Register on March 21, 2001. This data collection will continue until the closing data of August 28, 2003.

Affected Public: Individual or Households.

Number of Respondents: 800.

Estimated Time per Respondent:3 hours.

Estimated Total Annual Burden Hours: 2,400.

Frequency of Response: On Occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347, or e-mail muriel.anderson@fema.gov.

Dated: March 18, 2002.
Reginald Trujillo,
Branch Chief, Program Services and Systems Branch, Facilities Management and Services Division, Administration and Resource Planning Directorate.

[FR Doc. 02-7175 Filed 3-25-02; 8:45 am]

BILLING CODE 6718-01-P